COMMITTEE FOR PURCHASE FROM PEOPLE WHO ARE BLIND OR SEVERELY DISABLED

Procurement List; Proposed Additions and Deletions

AGENCY: Committee for Purchase From People Who are Blind or Severely Disabled.

ACTION: Proposed additions to and deletions from Procurement List.

SUMMARY: The Committee is proposing to add to the Procurement List services to be furnished by nonprofit agencies employing persons who are blind or have other severe disabilities, and to delete services previously furnished by such agencies.

Comments Must Be Received on or Before: November 13, 2005.

ADDRESSES: Committee for Purchase From People Who Are Blind or Severely Disabled, Jefferson Plaza 2, Suite 10800, 1421 Jefferson Davis Highway, Arlington, Virginia 22202-3259.

FOR FURTHER INFORMATION OR TO SUBMIT COMMENTS CONTACT: Sheryl D. Kennerly, Telephone: (703) 603-7740, Fax: (703) 603-0655, or e-mail SKennerly@jwod.gov.

SUPPLEMENTARY INFORMATION: This notice is published pursuant to 41 U.S.C 47(a) (2) and 41 CFR 51-2.3. Its purpose is to provide interested persons an opportunity to submit comments on the proposed actions.

Addition

If the Committee approves the proposed additions, the entities of the Federal Government identified in this notice for each service will be required to procure the services listed below from nonprofit agencies employing persons who are blind or have other severe disabilities.

Regulatory Flexibility Act Certification

I certify that the following action will not have a significant impact on a substantial number of small entities. The major factors considered for this certification were:

1. If approved, the action will not result in any additional reporting, recordkeeping or other compliance requirements for small entities other than the small organizations that will furnish the services to the Government.

2. If approved, the action will result in authorizing small entities to furnish the services to the Government.

3. There are no known regulatory alternatives which would accomplish the objectives of the Javits-Wagner-O'Day Act (41 U.S.C. 46-48c) in connection with the services proposed for addition to the Procurement List.

Comments on this certification are invited. Commenters should identify the statement(s) underlying the certification on which they are providing additional information.

End of Certification

The following services are proposed for addition to Procurement List for production by the nonprofit agencies listed:

Services:

Service Type/Location: Basewide Custodial Services U.S. Naval Academy Complex, Annapolis, Maryland.

NPA: Melwood Horticultural Training Center, Upper Marlboro, Maryland.

Contracting Activity: Naval Facilities Engineering Command, Chesapeake, Washington, DC.

Service Type/Location: Custodial Services, U.S. Geological Survey—Warehouse, 800 Ship Creek Avenue, USGS Storage Area, Anchorage, Alaska.

U.S. Geological Survey—Warehouse, Huffman Business Park, Building P 12100 Industry Way, Anchorage, Alaska.

NPA: Assets, Inc., Anchorage, Alaska.

Contracting Activity: U.S. Geological Survey—Oregon, Corvallis, Oregon.

Deletions

Regulatory Flexibility Act Certification

I certify that the following action will not have a significant impact on a substantial number of small entities. The major factors considered for this certification were:

1. If approved, the action may result in additional reporting, recordkeeping or other compliance requirements for small entities.

2. If approved, the action may result in authorizing small entities to furnish the services to the Government.

3. There are no known regulatory alternatives which would accomplish the objectives of the Javits-Wagner-O'Day Act (41 U.S.C. 46-48c) in connection with the services proposed for deletion from the Procurement List.

End of Certification

The following services are proposed for deletion from the Procurement List:

Services:

Service Type/Location: Janitorial/Custodial, Naval Reserve Readiness Command, Regional North Central, 715 Apollo Avenue, Minneapolis, Minnesota.

NPA: AccessAbility, Inc., Minneapolis, Minnesota.

Contracting Activity: Naval Facilities Engineering Command Contracts.

Service Type/Location: Janitorial/Custodial, U.S. Army Reserve Center, Kenton, Jacob Parrott, 707 N. Ida Street, Kenton, Ohio.

NPA: None currently authorized.

Contracting Activity: Department of the Army.

Service Type/Location: Janitorial/Custodial, U.S. Coast Guard, 2420 South Lincoln Memorial Parkway, Milwaukee, Wisconsin.

NPA: GWS, Inc., Waukegan, Wisconsin.

Contracting Activity: U.S. Coast Guard, Dept. of Transportation.

G. John Heyer,
General Counsel.

[FR Doc. E5-5648 Filed 10-13-05; 8:45 am]

BILLING CODE 6353-01-P